DEPARTMENT OF HEALTH AND HUMAN SERVICES

National Institutes of Health

Center for Scientific Review; Amended Notice of Meeting

Notice is hereby given of a change in the meeting of the Center for Scientific Review Special Emphasis Panel, July 21, 2008, 12 p.m. to July 21, 2008, 1:30 p.m., National Institutes of Health, 6701 Rockledge Drive, Bethesda, MD, 20892 which was published in the Federal Register on June 9, 2008, 73 FR 32589-32590.

The meeting will be held July 29, 2008, 2 p.m. to 3:30 p.m. The meeting location remains the same. The meeting is closed to the public.

Dated: June 10, 2008.
Jennifer Spaeth,
Director, Office of Federal Advisory Committee Policy.

[FR Doc. E8-13510 Filed 6-18-08; 8:45 am]

BILLING CODE 4140-01-M